DEPARTMENT OF THE INTERIOR

National Park Service

Notice of Intent (NOI) To Prepare a Draft Environmental Impact Statement (DEIS) for an Off-Road Vehicle Management Plan (ORV Management Plan) for Cape Hatteras National Seashore, NC

SUMMARY: Notice is hereby given in accordance with the National Environmental Policy Act of 1969 (NEPA), 42 U.S.C. 4332, and Council on Environmental Quality regulations, 40 CFR 1506.6, that the U.S. Department of the Interior, National Park Service (NPS), will prepare an ORV Management Plan/EIS. The ORV Management Plan/EIS will be used to guide the management and control of ORVs at Cape Hatteras National Seashore (the Seashore), North Carolina, for approximately the next 10 to 15 years. It will also form the basis for a special regulation that would regulate ORV use at the Seashore. The ORV Management Plan/EIS will assess potential environmental impacts associated with a range of reasonable alternatives for managing ORV impacts on park resources such as threatened and endangered species, soils, wetlands, wildlife, and cultural resources. Socioeconomic impacts and effects on visitor experience and public safety will also be analyzed.

DATES: To determine the scope of issues to be addressed in the ORV Management Plan/EIS and to identify significant issues related to the ORV management at the Seashore, the NPS will conduct public scoping meetings in North Carolina at Buxton, Kill Devil Hills, and Raleigh, North Carolina and in Washington, DC. Representatives of the NPS will be available to discuss issues, resource concerns, and the planning process at each of the public meetings. When public scoping meetings have been scheduled, their locations, dates, and times will be published in local newspapers and posted on the NPS Planning, Environment and Public Comment (PEPC) Web site at http://parkplanning.nps.gov/CAHA.

ADDRESSES: Written comments or requests for information should be addressed to Mike Murray, Superintendent, Outer Banks Group, 1401 National Park Drive, Manteo, North Carolina 27954. Comments may also be hand delivered to Mike Murray, Superintendent, Outer Banks Group, 1401 National Park Drive, Manteo, North Carolina. In addition comments may be entered on-line in the NPS PEPC Web site at http://parkplanning.nps.gov/CAHA. To comment using PEPC, select the “Cape Hatteras National Seashore ORV Management Plan/DEIS project,” select “documents,” select this “Notice of Intent,” and then select “Comment” and enter your comments.

FOR FURTHER INFORMATION CONTACT: Mike Murray, Superintendent, at 252-473-2111, extension 148. E-mail Mike_Murray@nps.gov. Further information about this project may also be found on the PEPC Web site at http://parkplanning.nps.gov/CAHA including links to information about the NEPA planning process and the regulatory negotiation process.

SUPPLEMENTARY INFORMATION: The ORV use on the Seashore beaches predates establishment of the park in 1953. The ORVs (mostly 4-wheel drive pickup trucks and sport utility vehicles) are used to provide vehicular access onto the Seashore beaches for recreational and commercial purposes, including surf fishing, surfing, sunbathing, swimming, bird watching, scenic driving, commercial fishing, etc. Ranger counts of ORVs on the beach have reached as high as 2,200 a day on summer holiday weekends.

Executive Order 11644, issued in 1972 and amended by Executive Order 11989 in 1977, states that Federal agencies allowing ORV use must designate the specific areas and trails on public lands on which the use of ORVs may be permitted, and areas in which the use of ORVs may not be permitted. Agency regulations to authorize ORV use shall provide that designation of such areas and trails will be based upon the protection of the resources of the public lands, promotion of the safety of all users of those lands, and minimization of conflicts among the various uses of those lands. Executive Order 11644 was issued in response to the widespread and rapidly increasing use of ORV on the public lands—“often for legitimate purposes but also in frequent conflict with wise land and resource management practices, environmental values, and other types of recreational activity.” Therefore, in accordance with the Executive Order, the purpose of this action is to develop an ORV Management Plan/EIS that considers alternative management strategies consistent with the park's enabling legislation, and park mandates for preservation of resources and values.

An ORV Management Plan is needed because lack of an approved plan over time has led to inconsistent management of ORV use. As the popularity of the Seashore continues to grow, conflicts between visitors who seek access to the Seashore by means of an ORV and those desiring a variety of other experiences has increased. Related to the need to provide consistency in ORV management is the need to provide consistency in resource protection in areas of ORV use, particularly as required under the Endangered Species Act of 1973. Compounding these issues, the Seashore is also subject to dynamic weather-related events that continually change the beach, and sometimes limit the area that can be accessed safely by ORVs. Therefore, the need for action is to: (1) Provide a comprehensive plan that complies with Executive Orders 11644 and 11989 respecting ORV use, and with laws (e.g. the NPS Organic Act, park enabling legislation, Endangered Species Act, Migratory Bird Treaty Act), NPS regulations (36 CFR 4.10), and policies to minimize impacts to park resources and values; and, (2) Develop and assess a range of options within the plan that provides for a variety of visitor experiences, including access for ORV use, to the degree these experiences are consistent with the park's enabling legislation.

The ORV Management Plan/EIS will cover lands administered by the NPS on Bodie, Hatteras, and Ocracoke Islands on the Outer Banks of North Carolina. The 5,880 acre Pea Island National Wildlife Refuge (Refuge), located at the northern end of Hatteras Island, is part of the Seashore, but is administered for refuge purposes by the U.S. Fish and Wildlife Service (USFWS) in accordance with the National Wildlife Refuge System Administration Act, 16 U.S.C. 668dd et seq. The USFWS is responsible for determining whether ORVs are compatible with the purposes of the Refuge; therefore Refuge lands are excluded from the Seashore ORV Management Plan/EIS.

During initial internal scoping the NPS interdisciplinary team identified a number of draft objectives for the ORV Management Plan/EIS, including:

Management Methodology: Identify criteria to designate appropriate ORV use areas and routes.

Visitor Use and Experience: Manage ORV use to allow for a variety of visitor use experiences. Minimize conflicts between ORV use and other uses. Provide for ORV use for those activities consistent with park resource conservation as recognized under the Seashore's enabling legislation.

Threatened, Endangered, and Species of Special Concern: Provide protection for threatened, endangered, and sensitive species and their habitats from adverse impacts related to ORV use.

Because the management of ORVs at the Seashore has been controversial, the NPS has arranged through an interagency agreement with the U.S. Institute for Environmental Conflict Resolution for a neutral facilitation team to assess the feasibility of using negotiated rulemaking to reach a consensus agreement among interested parties that may be used as a basis for an NPS ORV special regulation. Based on the feasibility assessment, the NPS is developing a Notice of Intent to Establish a Negotiated Rulemaking Committee which would be published separately in the Federal Register for public comment. If a committee is established, the negotiated rulemaking and NEPA planning processes would be conducted concurrently.

Before including your address, phone number, e-mail address, or other personal identifying information in your comment, you should be aware that your entire comment—including your personal identifying information—may be made publicly available at any time. While you can ask us in your comment to withhold your personal identifying information from public review, we cannot guarantee that we will be able to do so.

The draft and final ORV Management Plan/EIS will be made available to all known interested parties and appropriate agencies. Full public participation by Federal, State, and local agencies as well as other concerned organizations and private citizens is invited throughout the preparation process of this document.

The responsible official for this ORV Management Plan/EIS is Patricia A. Hooks, Regional Director, Southeast Region, National Park Service, 100 Alabama Street, SW., 1924 Building, Atlanta, Georgia 30303.

Dated: December 1, 2006.
Paul B. Hartwig,
Acting Regional Director, Southeast Region.

[FR Doc. E6-20961 Filed 12-8-06; 8:45 am]

BILLING CODE 4310-X3-P